FEDERAL COMMUNICATIONS COMMISSION

47 CFR Part 76

[MB Docket No. 05-181; FCC 05-92]

Implementation of Section 210 of the Satellite Home Viewer Extension and Reauthorization Act of 2004 To Amend Section 338 of the Communications Act

AGENCY: Federal Communications Commission.

ACTION: Proposed rule; correction.

SUMMARY: This document corrects a Notice of proposed rulemaking summary that was published in the Federal Register at 70 FR 24350, May 9, 2005. In this document, the Commission corrects the Dates section of the preamble to reflect correct comment due dates.

DATES: Comments for this proceeding are due on or before June 6, 2005; reply comments are due on or before June 20, 2005. Written comments on the proposed information collection requirements contained in this document must be submitted by the public, the Office of Management and Budget (OMB), and other interested parties on or before July 8, 2005.

ADDRESSES: You may submit comments, identified by MB Docket No. 05-181, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: For additional information on this proceeding, contact Eloise Gore, Eloise.Gore@fcc.gov of the Media Bureau, Policy Division, (202) 418-2120. For additional information concerning the Paperwork Reduction Act information collection requirements contained in this NPRM, contact Cathy Williams, Federal Communications Commission, 445 12th St., SW., Room 1-C823, Washington, DC 20554, or via the Internet to Cathy.Williams@fcc.gov. If you would like to obtain or view a copy of this revised information collection, OMB Control Number 3060-0980, you may do so by visiting the FCC PRA web page at: http://www.fcc.gov/omd/pra.

SUPPLEMENTARY INFORMATION: In FR Doc. 05-9290 on page 24350 published in the Federal Register on Monday, May 9, 2005 make the following corrections: On page 24350 in the second column, in the DATES section, the first sentence is corrected to read as follows: Comments for this proceeding are due on or before June 6, 2005; reply comments are due on or before June 20, 2005.

Federal Communications Commission.
Marlene H. Dortch,
Secretary.

[FR Doc. 05-10227 Filed 5-19-05; 8:45 am]

BILLING CODE 6712-01-P